DEPARTMENT OF HOMELAND SECURITY

Coast Guard

33 CFR Part 117

[Docket No. USCG-2011-0759]

Drawbridge Operation Regulations; Long Island, New York Inland Waterway From East Rockaway Inlet to Shinnecock Canal, NY

AGENCY: Coast Guard, DHS.

ACTION: Notice of temporary deviation from regulations.

SUMMARY: The Commander, First Coast Guard District, has issued a temporary deviation from the regulation governing the operation of the Loop Parkway Bridge, mile 0.7, across Long Creek, and the Captree State Parkway (Robert Moses Causeway) Bridge, mile 30.7, across the State Boat Channel, at Long Island, New York. This deviation is necessary to facilitate the 2011 March of Dimes Motorcycle Run. The deviation allows the two bridges listed above to remain in the closed position during this public event.

DATES: This deviation is effective from 10:51 a.m. through 1:49 p.m. on September 25, 2011.

ADDRESSES: Documents mentioned in this preamble as being available in the docket are part of docket USCG-2011-0759 and are available online at http://www.regulations.gov, inserting USCG-2011-0759 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, telephone (212) 668-7165, judy.k.leung-yee@uscg.mil. If you have questions on viewing the docket, call Renee V. Wright, Program Manager, Docket Operations, telephone 202-366-9826.

SUPPLEMENTARY INFORMATION:

The Loop Parkway Bridge, mile 0.7, across Long Creek has a vertical clearance in the closed position of 21 feet at mean high water and 25 feet at mean low water. The existing drawbridge operation regulations are listed at 33 CFR 117.799(f).

The Captree State Parkway (Robert Moses Causeway) Bridge, mile 30.7, across the State Boat Channel has a vertical clearance in the closed position of 29 feet at mean high water and 31 feet at mean low water. The existing drawbridge operation regulations are listed at 33 CFR 117.799(i).

Long Creek and the State Boat Channel both are both transited by commercial fishing and recreational vessel traffic.

The owner of the two bridges, the State New York Department of Transportation, requested bridge closures to facilitate a public event, the March of Dimes Charity Motorcycle Run.

Under this temporary deviation the Loop Parkway Bridge may remain in the closed position from 10:51 a.m. through 11:49 a.m. and from 12:21 p.m. through 1:49 p.m. on September 25, 2011, and the Captree State Parkway Bridge (Robert Moses Causeway) may remain in the closed position from 11 a.m. through 1 p.m. on September 25, 2011, to facilitate a public event, the 2011 March of Dimes Motorcycle Run.

Vessels that can pass under the closed draws during each respective closure may do so at any time.

In accordance with 33 CFR 117.35(e), the bridge must return to its regular operating schedule immediately at the end of the designated time period. This deviation from the operating regulations is authorized under 33 CFR 117.35.

Dated: July 29, 2011.
Gary Kassof,
Bridge Program Manager, First Coast Guard District.

[FR Doc. 2011-20092 Filed 8-8-11; 8:45 am]

BILLING CODE 9110-04-P